DEPARTMENT OF ENERGY

Federal Energy Regulatory Commission

[Docket No. RP00-402-001]

Paiute Pipeline Co.; Notice of Compliance Filing

September 13, 2001.

Take notice that on September 10, 2001, Paiute Pipeline Company (Paiute) tendered for filing as part of its FERC Gas Tariff, Second Revised Volume No. 1-A, the following tariff sheets:

Sixth Revised Sheet No. 63C

Third Revised Sheet No. 65

First Revised Sheet No. 65A

First Revised Sheet No. 66

First Revised Sheet No. 80

Second Revised Sheet No. 81

First Revised Sheet No. 83

First Revised Sheet No. 84

First Revised Sheet No. 87

First Revised Sheet No. 88

First Revised Sheet No. 89A

Fourth Revised Sheet No. 110

Fourth Revised Sheet No. 111

Fourth Revised Sheet No. 112

Third Revised Sheet No. 113

Second Revised Sheet No. 113A

Third Revised Sheet No. 113B

Second Revised Sheet No. 113C

First Revised Sheet No. 126

Paiute indicates that the purpose of the instant filing is to comply with the directives of the Commission's order issued on July 30, 2001 in Docket No. RP00-402-000, concerning Paiute's compliance with Order Nos. 637, 587-G and 587-L.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23388 Filed 9-19-01; 8:45 am]

BILLING CODE 6717-01-P